Title 3—

The President

Proclamation 8625 of January 31, 2011

American Heart Month, 2011

By the President of the United States of America

A Proclamation

Heart disease is a staggering health problem and a leading cause of death for American women and men. Thankfully, there are steps each of us can take to prevent this chronic disease. In a time when one in three adults in the United States is living with some form of cardiovascular disease, American Heart Month provides an important reminder that it is never too early to take action to improve our heart health.

All Americans should be aware of risk factors that can lead to heart disease, including: high blood pressure, high cholesterol, diabetes, obesity, physical inactivity, tobacco use, and family history. Practicing everyday habits such as eating a balanced diet, maintaining a healthy weight, limiting sodium consumption, exercising regularly, avoiding tobacco, and moderating alcohol intake can reduce these risks. Each of us can be proactive about our well being, and my Administration is committed to helping Americans protect themselves from chronic conditions like heart disease. Under the Affordable Care Act, all new individual and group health plans must now provide recommended preventive care and services without a copayment, coinsurance, or deductible. These potentially life-saving screenings include blood pressure, diabetes, cholesterol, and body mass index tests, as well as counseling on quitting smoking, losing weight, and eating well. To learn more about the risk factors and prevention of heart disease, I encourage all Americans to visit: www.CDC.gov/HeartDisease.

To save lives in the fight against cardiovascular disease, my Administration is investing in world-class research to prevent and treat this and other chronic diseases. We are also continuing to raise awareness of heart disease and its risk factors among Americans of all ages. First Lady Michelle Obama’s Let’s Move! initiative is safeguarding healthier hearts for the next generation by addressing the factors that contribute to childhood obesity and its serious health consequences. The National Heart, Lung, and Blood Institute’s The Heart Truth campaign sends women of all ages an urgent message about their risk of heart disease. In support of women’s heart health, I encourage all Americans to wear red or the campaign’s Red Dress Pin on National Wear Red Day on Friday, February 4 in honor of the movement to increase awareness of women’s heart disease. Learn more by visiting: www.HeartTruth.gov.

During American Heart Month, we honor the health professionals, researchers, and heart health ambassadors whose dedication enables countless Americans to live full and active lives. This month, let us rededicate ourselves to reducing the burden of heart disease by raising awareness, taking steps to improve our own heart health, and encouraging our colleagues, friends, and family to do the same.

In acknowledgement of the importance of the ongoing fight against cardiovascular disease, the Congress, by Joint Resolution approved December 30, 1963, as amended (77 Stat. 843; 36 U.S.C. 101), has requested that the President issue an annual proclamation designating February as “American Heart Month.”

NOW, THEREFORE, I, BARACK OBAMA, President of the United States of America, do hereby proclaim February 2011 as American Heart Month, and I invite all Americans to participate in National Wear Red Day on February 4, 2011. I also invite the Governors of the States, the Commonwealth of Puerto Rico, officials of other areas subject to the jurisdiction of the United States, and the American people to join me in recognizing and reaffirming our commitment to fighting cardiovascular disease.

IN WITNESS WHEREOF, I have hereunto set my hand this thirty-first day of January, in the year of our Lord two thousand eleven, and of the Independence of the United States of America the two hundred and thirty-fifth.

[FR Doc. 2011-2575

Filed 2-2-11; 11:15 am]

Billing code 3195-W1-P